DEPARTMENT OF COMMERCE

National Oceanic and Atmospheric Administration

50 CFR Part 648

[Docket No. 010313064-1064-01; I.D. 070102E]

Fisheries of the Northeastern United States; Northeast Multispecies Fishery; Commercial Haddock Harvest

AGENCY: National Marine Fisheries Service (NMFS), National Oceanic and Atmospheric Administration (NOAA), Commerce.

ACTION: Notice of removal of haddock daily trip limit.

SUMMARY: NMFS announces that the Administrator, Northeast Region, NMFS (Regional Administrator), is suspending the haddock daily trip limit for the groundfish fishery. The Regional Administrator has projected that less than 75 percent of the haddock target total allowable catch (TAC) will be harvested for the 2002 fishing year under the restrictive daily trip limit. This action is intended to allow fisherman to catch more of the haddock TAC, without exceeding it.

DATES: Effective July 5, 2002.

FOR FURTHER INFORMATION CONTACT: Tom Warren, Fishery Policy Analyst, 978-281-9347.

SUPPLEMENTARY INFORMATION: Framework Adjustment 33 to the NE Multispecies Fishery Management Plan, which became effective May 1, 2000, implemented the current haddock trip limit regulations (65 FR 21658, April 24, 2000). To ensure that haddock landings do not exceed the appropriate TAC, Framework 33 established a haddock trip limit of 3,000 lb (1,360.8 kg) per NE Multispecies DAS fished and a maximum trip limit of 30,000 lb (13,608 kg) of haddock for the period May 1 through September 30; and 5,000 lb (2,268 kg) of haddock per DAS and 50,000 lb (22,680 kg) per trip from October 1 through April 30. Framework 33 also provided a mechanism to adjust the haddock trip limit based upon the percentage of TAC that is projected to be harvested. Section 648.86(a)(1)(iii)(B) specifies that, if the Regional Administrator has projected that less than 75 percent of the haddock TAC will be harvested in the fishing year, the trip limit may be adjusted. Further, this section stipulates that NMFS will publish a notification in the Federal Register informing the public of the date of any changes to the trip limit.

The Regional Administrator has projected that less than 75 percent of the 2002 fishing year haddock TAC will be harvested by April 30, 2003, and has therefore determined that suspending the daily haddock trip limit through April 30, 2003, while retaining the 30,000-lb (13,608-kg) and 50,000-lb (22,680-kg) per trip possession limits, for May 1-September 30, 2002, and October 1, 2002 - April 30, 2003, respectively, will provide the industry with the opportunity to harvest at least 75 percent of the TAC for the 2002 fishing year. In order to prevent the TAC from being exceeded, the Regional Administrator may adjust this possession limit again through publication of a notification in the Federal Register, pursuant to § 648.86(a)(1)(iii).

Classification

This action is required by 50 CFR part 648 and is exempt from review under Executive Order 12866.

Authority: 16 U.S.C. 1801 et seq.

Dated: July 2, 2002.
Virginia M. Fay,
Acting Director, Office of Sustainable Fisheries, National Marine Fisheries Service.

[FR Doc. 02-17102 Filed 7-3-02; 12:53 pm]

BILLING CODE 3510-22-S